DEPARTMENT OF EDUCATION

34 CFR Chapter III

[ED-2020-OSERS-0104]

Final Priorities, Requirements and Definitions—Rehabilitation Training: Vocational Rehabilitation Technical Assistance Center-Quality Management; and Vocational Rehabilitation Technical Assistance Center-Quality Employment

AGENCY: Office of Special Education and Rehabilitative Services (OSERS), Department of Education.

ACTION: Final priorities, requirements, and definitions.

SUMMARY: The Department of Education (Department) announces priorities, requirements, and definitions under the Rehabilitation Training program, Catalog of Federal Domestic Assistance (CFDA) numbers 84.264J and 84.264K. The Department may use one or more of these priorities, requirements, and definitions for competitions in fiscal year (FY) 2020 and later years. We take this action to focus attention on an identified national need to fund a Vocational Rehabilitation Technical Assistance Center for Quality Management (VRTAC-QM) and a Vocational Rehabilitation Technical Assistance Center for Quality Employment (VRTAC-QE). We intend for the VRTAC-QM and VRTAC-QE to increase the number and quality of employment outcomes for individuals with disabilities through training and technical assistance to State vocational rehabilitation (VR) agency personnel. We expect the VRTAC-QM to enable State VR agency personnel to manage available resources better and improve service delivery, and the VRTAC-QE to support State VR agency personnel to implement innovative and effective employment strategies and supporting practices.

DATES: Effective Date: These priorities, requirements, and definitions are effective September 2, 2020.

FOR FURTHER INFORMATION CONTACT: For 84.264J: Douglas Zhu, U.S. Department of Education, 400 Maryland Avenue SW, Room 5095, Potomac Center Plaza, Washington, DC 20202-2800. Telephone: (202) 245-6037. Email: 84.264J@ed.gov. For 84.264K: Felipe Lulli, U.S. Department of Education, 400 Maryland Avenue SW, Room 5101, Potomac Center Plaza, Washington, DC 20202-2800. Telephone: (202) 245-7425. Email: 84.264K@ed.gov.

If you use a telecommunications device for the deaf (TDD) or a text telephone (TTY), call the Federal Relay Service (FRS), toll free, at 1-800-877-8339.

SUPPLEMENTARY INFORMATION: Purpose of Program: Under the Rehabilitation Act of 1973 (Rehabilitation Act), as amended by the Workforce Innovation and Opportunity Act (WIOA), the Rehabilitation Services Administration (RSA) makes grants to States and public or nonprofit agencies and organizations (including institutions of higher education) to pay part of the cost of projects to provide State VR agency personnel with training and technical assistance designed to assist in increasing the numbers of, and upgrading the skills of, qualified personnel (especially rehabilitation counselors), who are trained in providing vocational, medical, social, and psychological rehabilitation services to individuals with disabilities. They are also trained to assist individuals with communication and related disorders and to provide other services authorized under the Rehabilitation Act.

Program Authority: 29 U.S.C. 772(a)(1).

Applicable Program Regulations: 34 CFR part 385.

We published a notice of proposed priorities, requirements, and definitions (NPP) for this program in the Federal Register on April 9, 2020 (85 FR 19908). That notice contained background information and our reasons for proposing the particular priorities, requirements, and definitions.

Except for minor editorial and technical revisions for grammar and clarity and three minor substantive changes explained in the discussion of comments that follow, there are no differences between the proposed priorities, requirements, and definitions and these final priorities, requirements, and definitions.

Public Comment: In response to our invitation in the NPP, 12 parties submitted comments on the proposed priorities, requirements, and definitions.

We group major issues according to subject and discuss substantive issues under each of the titles—priorities, requirements, and definitions—to which they pertain. Generally, we do not address technical and other minor changes, or suggested changes the law does not authorize us to make. In addition, we do not address general comments that raise concerns not directly related to the proposed priorities, requirements, or definitions.

Analysis of Comments and Changes: An analysis of the comments and of any changes in the priorities, requirements, and definitions since publication of the NPP follows.

Priorities

Comment: Some commenters expressed concern that the proposed priorities contained what appeared to be some conceptual overlapping of lead responsibilities between the VRTAC-QM and the VRTAC-QE, for example, between improving VR service delivery and implementing employment strategies. One of the commenters referenced the centers' shared focus on pre-employment transition services. Another commenter pointed out that both centers are required to engage with the training and technical assistance resources funded by the U.S. Departments of Education, Labor, and Health and Human Services. The commenters recommended that the final priorities provide specifics about the nature and extent of required coordination between the two VRTACs to ensure that each center's resources are used most effectively, clearly differentiate the lead responsibilities among the centers, and require the centers to coordinate their work on the State, regional, and national levels.

Discussion: The Department appreciates the commenters' suggestions and recommendations. The Department agrees that clarity of roles and coordination of activities between the centers are necessary for the efficient and cost-effective delivery of intensive training and technical assistance to State VR agency personnel. This is why we require the VRTAC-QM and VRTAC-QE to coordinate training and technical assistance with other technical assistance centers. Such clarity and coordination are especially critical because both centers will assist VR agencies to improve the provision of VR services, including pre-employment transition services and the achievement of quality employment outcomes. The VRTAC-QM pursues these goals through improved program management and resource utilization, whereas the VRTAC-QE focuses on the implementation of promising employment strategies and practices. Coordination and clarity of roles between the VRTAC-QM and VRTAC-QE will be pursued through RSA's cooperative agreement with each center, training and technical assistance agreements with each State VR agency, RSA leadership and direction at the national level, and ongoing communication between the respective project officers. As such, further clarification and differentiation are not necessary.

Changes: None.

Comment: One commenter noted that although the WIOA Joint Rule for Unified and Combined State Plans, Performance Accountability, and One-Stop System Joint Provisions became effective on October 18, 2016, several key RSA policy directives and technical assistance circulars that have provided guidance in implementing those regulations were released a year or more later. As a result, State VR agencies still need technical assistance to ensure effective implementation of the requirements of the newer rules. The commenter suggested that Priority 1, VRTAC-QM, include a more general focus on continued training and technical assistance to assist State VR agencies in implementing the requirements of WIOA.

Discussion: The Department appreciates the commenter's suggestion. As stated in the purpose of the program in the VRTAC-QM and the VRTAC-QE priorities, each project will provide training and technical assistance to State VR agency personnel to equip and increase the number of personnel with the necessary skills to implement the provisions in the Rehabilitation Act as amended by WIOA. The VRTAC-QM and VRTAC-QE will provide training and technical assistance to address the need of State VR agencies to ensure effective implementation of the requirements of WIOA, including those raised by the commenter.

Changes: None.

Comment: One commenter noted that resource limitations related to States' challenges in meeting VR program match requirements, as well as the requirement to reserve at least 15 percent of Federal VR program funds for pre-employment transition services to eligible and potentially eligible students with disabilities, have reduced State VR agencies' ability to serve all eligible individuals with disabilities. The commenter stated that, in the absence of significant additional resources devoted to serving individuals with disabilities, the coronavirus pandemic's current and future impact on State budgets and labor markets will almost certainly lead to even fewer eligible individuals being served and smaller numbers of employment outcomes among VR participants in program year 2020 and beyond. This commenter suggested that targeted and intensive technical assistance can help VR agencies identify ways to use available resources more effectively.

Discussion: The Department appreciates the commenter's support for the priorities. Under the priority for quality management, the VRTAC-QM will be able, through targeted and intensive technical assistance, to help State VR agencies to identify ways to use available resources more effectively and to implement program and resource management strategies and practices that lead to effective and efficient service delivery and quality employment outcomes.

Changes: None.

Comment: Several commenters addressed the COVID-19 pandemic's potential impact on VRTAC-QM and VRTAC-QE's intensive training and technical assistance delivery methods, topic areas, and performance assessments. A few of the commenters inquired whether RSA would allow the centers' intensive training and technical assistance to be delivered virtually rather than in-person, if necessary or advisable due to continued travel restrictions and social distancing requirements. One commenter recommended that the intensive training and technical assistance include a focus on promoting effective distance service delivery and community engagement approaches, especially in the provision of pre-employment transition services. Another commenter inquired whether RSA would consider the pandemic's impact on State budgets, local economies, employers, and, ultimately, VR participants in its evaluation of the centers' performance.

Discussion: The VRTAC-QM and the VRTAC-QE will provide training and technical assistance to State VR agency personnel to achieve the State VR agency's program management, service delivery, and quality employment goals in a manner consistent with the priority and with each State's particular circumstances, including those related to COVID-19. The centers' training and technical assistance will help VR personnel to assess and improve the VR agency's management and service delivery systems, which may include remote delivery of services, including how to provide pre-employment transition services remotely. Further, while intensive training and technical assistance are typically provided on-site, nothing in the priorities precludes the VRTAC-QM and VRTAC-QE from providing the training and technical assistance remotely if on-site delivery is not possible or advisable. The service delivery and performance evaluation considerations related to COVID-19 can be addressed in the cooperative agreement between RSA and the respective technical assistance center. To reflect that the priorities are broad enough to encompass these activities, RSA has revised the priorities to address remote delivery of training and technical assistance and to provide technical assistance on remote delivery of services.

Changes: We have revised the definition of “intensive training and technical assistance” under the Final Definitions section by adding remote delivery as needed and appropriate.

Comment: One commenter asserted that the VRTAC-QE should not be responsible for directly implementing employment strategies and supporting practices in the participating State VR agencies.

Discussion: We agree with the commenter that the VR agencies are responsible for implementing specific strategies or practices in their States. The VRTAC-QE and VRTAC-QM are responsible for conducting comprehensive reviews of current and promising strategies and practices, presenting them as options to participating State VR agency personnel, and providing high-quality and relevant intensive training and technical assistance to State VR agency personnel if they choose to implement selected strategies or practices.

Changes: None.

Comment: Several commenters expressed concern that the proposed priorities did not sufficiently emphasize training and technical assistance to Community Rehabilitation Programs (CRPs), given the importance of CRPs' role in promoting quality employment outcomes for individuals with disabilities. One of the commenters noted that the proposed priorities focus exclusively on improving the knowledge, skills, and capabilities of VR personnel but devote little or no attention to the knowledge, skills, and capabilities of CRP personnel. One commenter pointed out that only one of the six listed supporting practices explicitly references CRPs. Another commenter stressed the need for flexible and innovative approaches for CRPs in Supported Employment, in particular. The commenters recommended that the proposed priorities elevate the role of CRPs and prioritize training and technical assistance to CRP personnel.

Discussion: We agree that CRPs play a very important role in promoting quality employment outcomes for individuals with disabilities. Consistent with section 302 of the Rehabilitation Act, as amended by WIOA, the purpose of these priorities is to support projects that provide training and technical assistance designed to assist in increasing the numbers of, and upgrading the skills of, qualified personnel (especially rehabilitation counselors). The VRTAC-QM and VRTAC-QE will provide intensive training and technical assistance to VR personnel according to a signed agreement between RSA and each participating State VR agency. The intensive training and technical assistance agreement includes the specific State agency's goals and objectives, selected strategies and practices, individuals or groups of individuals to receive the training and technical assistance, and designated partner organizations. The intensive training and technical assistance provided under an agreement may involve CRPs as partner organizations because of their expertise in and potential contributions to the implementation of VRTAC-QM or VRTAC-QE strategies and practices and may include topics and approaches such as those recommended by the commenter.

Changes: We added a reference to CRPs and other partners in both priorities.

Comment: One commenter noted that the employment rate of people with intellectual and developmental disabilities has been nationally around 20 percent for the last 10 years, and a reasonable person would have a hard time believing that the low rate is because of what VR counselors are doing or not doing, or that technical assistance can make a positive impact. This commenter suggested that when starting the technical assistance centers, it would be prudent for the centers to include people who can analyze such data.

Discussion: The Department agrees that it is necessary for the technical assistance centers to include personnel who can analyze data. Data collection, data analysis, and evaluation are addressed in the proposed priorities and project requirements and include activities such as analyzing case service data, including the VR Program Case Service Report (RSA-911) data and other agency performance data, to identify trends and inconsistencies in program performance and developing strategies to improve the quantity and quality of employment outcomes achieved by various groups of individuals with disabilities served by the VR program.

Changes: None.

Comment: A few commenters noted that many nonprofit organizations employ people with disabilities and have the capacity to hire and train more people with disabilities than they currently hire and train. These commenters suggested that the VRTAC-QE assist VR agencies' personnel to expedite and streamline the referral of persons with disabilities to nonprofit organizations.

Discussion: The Department appreciates the commenters' suggestions. Nothing in the priorities precludes the technical assistance centers from providing training and technical assistance to VR agency personnel on topics related to improving referrals for the purpose of assisting individuals with disabilities to achieve competitive integrated employment, if it is identified as a need by a VR agency.

Changes: None.

Comment: One commenter noted that the way in which current program performance measures are calculated is important, but that it is even more important both to understand the limitations on the reliability and validity of the data used to calculate the measures and to ensure that program performance data are used appropriately to inform program and policy decisions. The work of the Technical Assistance Center for Program Evaluation and Quality Assurance (PEQA-TAC), including the collaborative Summit Conference in which the PEQA-TAC has played a major role in recent years, has been of tremendous value in enhancing VR agencies' use of effective program evaluation strategies, according to the commenter. The commenter suggested that the VRTAC-QM focus on enhancing VR agencies' ability to effectively use both performance measurement strategies and in-depth program evaluation processes as recommended by the Government Accountability Office in publications such as GAO-05-739SP and GAO-11-646SP.

Discussion: The Department agrees with the commenter that the ability of VR personnel to effectively use both performance measurement strategies and in-depth program evaluation processes is important for VR program management. Since conducting quality assurance and performance improvement, including the use of data for performance management systems and the implementation of the common performance measures required by WIOA, are already included in the priority for VRTAC-QM, there is no need to make changes to the priority to address this focus area.

Changes: None.

Comment: One commenter suggested that RSA continue funding for the existing technical assistance centers that have effectively served VR agencies over the past several years. The commenter also stated that the challenges inherent in establishing new national technical assistance centers will inevitably result in delays in the centers' collective ability to respond to the needs of State VR agencies, as well as gaps in the technical assistance available to VR agencies that they can ill afford to experience during a time of ongoing change in State VR programs, particularly in light of the current and ongoing challenges that all VR agencies face in addressing the COVID-19 pandemic. The commenter suggested that RSA consider continuing funding the current technical assistance centers for at least the next two years.

Discussion: The Department agrees with the commenter that the current centers have performed well and continued technical assistance is needed. The current centers were put in place to respond to very specific changes WIOA made to the Rehabilitation Act, and State VR agencies are in a different place now than they were five years ago with respect to implementing the changes. The current set of RSA-funded VR technical assistance centers will be reaching the end of their five-year performance period, and the Department believes the new priority areas will provide the training and technical assistance that State VR agencies need. Given the status of the State VR agencies in implementing the specific changes based on WIOA, RSA believes that State VR agency personnel will benefit from technical assistance to achieve the State VR agency's program management, service delivery, and quality employment goals, in a manner consistent with the priority and with each State's particular circumstances, including those related to COVID-19. RSA expects that the new technical assistance centers will be able to respond to the technical assistance needs of the State VR agencies.

Changes: None.

Comment: One commenter noted that quality management is a pressing topic for individuals with disabilities accessing the State VR program for the purpose of achieving competitive integrated employment. This commenter also noted that the amendments to the Rehabilitation Act emphasized expanding quality employment outcomes and career advancement for individuals with disabilities. The commenter suggested that the VRTAC-QM focus on fiscal and programmatic changes to VR agency operations that are philosophically consistent with the emphasis on expanding quality employment outcomes and career advancement for as many eligible individuals with disabilities as possible. The commenter also suggested that increasing the capacity of agencies in these areas should result in qualifying individuals for services in a manner that does not lead to the disqualification of other individuals.

Discussion: The Department appreciates the commenter's suggestions. The priority for the VRTAC-QM stresses maximizing available resources to support consumer services and includes the types of services and outcomes suggested by the commenter.

Changes: None.

Project Requirements

Comment: One commenter suggested making it mandatory to include a representative from a CRP or a provider association on the advisory committee for the VRTAC-QM.

Discussion: The Department acknowledges the important role of CRPs in assisting individuals with disabilities to achieve their employment outcomes. The proposed priority for the VRTAC-QM requires a representative of stakeholders, which would include CRPs, to serve on the committee. However, given the important role of CRPs in providing rehabilitation services, RSA agrees with the commenter that the committee must include a CRP representative.

Changes: We added CRP representatives to the list of required members of the VRTAC-QM advisory committee in the Project Requirements section of Priority 1.

Comment: One commenter asked for clarification regarding whether the VRTAC-QM has discretion to provide distinct intensive training and technical assistance to State VR agencies on resource management or programmatic management.

Discussion: The Department believes that the VRTAC-QM should have the capacity to provide intensive training and technical assistance to VR agencies on both program management and resource management. The VRTAC-QM may provide training and technical assistance to State VR agency personnel on topics related to program management, resource management, or both, based on the participating State VR agency's identified needs.

Changes: None.

Comment: One commenter asked whether the state-of-the-art website and information technology (IT) platform to be established by the technical assistance centers for communicating with State VR agencies can be an existing website specifically designed to house and provide VR-specific information and resources, or whether a new site must be constructed.

Discussion: If the grantee has a website that can be modified for the purpose of the specific technical assistance center and it meets all of the final requirements, RSA may approve that website. Otherwise, a new website must be constructed for the purpose of the VRTAC-QM or VRTAC-QE exclusively.

Changes: None.

Comment: One commenter suggested that the VRTAC-QM have three critical management objectives: (1) Explore strategies to respond to increased demands for services that build capacity through the redesign of service delivery, including, but not limited to, virtual counseling, outcome-based payments to incentivize success with job placement and worker retention, and increased emphasis on poverty reduction that recognizes the impact of financial stress on physical and mental health; (2) develop new options for collaboration that draw additional financial and human resources in coordination with VR to meet expanded client demand; and (3) expand coordination with the employer community to build new on-ramps and pathways into employment for individuals with disabilities through inclusive apprenticeships and entrepreneurial opportunities.

Discussion: The Department agrees that these three objectives are reasonable options under the priorities, if they are among the needs identified by the participating VR agency; supported by the agency's strengths, weaknesses, opportunities for improvement, and threats (SWOT) quality management assessment; and included in the corresponding training and technical assistance agreement. Please note that building new on-ramps and pathways into employment for individuals with disabilities is addressed through the priority for the VRTAC-QE.

Changes: None.

Comment: One commenter suggested that RSA establish criteria to prioritize the State VR agencies to receive intensive technical assistance from the technical assistance centers. The commenter noted that the criteria would be based on the degree to which State VR agencies exhibit (1) ownership of their conditions, (2) engagement willingness, (3) clear understanding of technical assistance to meet needs, and (4) partnership and communication capacities.

Discussion: The Department agrees that, given the limited resources of the technical assistance centers, it is possible that there will be multiple VR agencies requiring training and technical assistance from the centers. The technical assistance centers need to have a system in place to address this scenario so that they can prioritize the training and technical assistance to the State VR agencies most in need. RSA will work with the technical assistance centers to prioritize which VR agencies get technical assistance through the cooperative agreement between RSA and the technical assistance centers.

Changes: None.

Comment: One commenter suggested that the Department be cautious reaching any conclusions regarding VR agencies' performance that are based primarily on data from Program Year (PY) 2017 and PY 2018 because the reliability, validity, and completeness of the new performance indicator data first reported in 2017 are limited. The commenter noted that the current RSA-911 reporting requirements that went into effect on July 1, 2017, compelled State VR agencies to make substantial, complex, and challenging revisions to the information collected and reported on the individuals they serve, and to provide significant training and support to VR counselors who are responsible for much of the new data collection. The commenter stated that, in particular, the PY 2017 and PY 2018 data on measurable skill gains (MSG) among VR participants enrolled in education or training were suppressed by limitations on the timeframe for reporting those gains, combined with the requirement for VR staff to verify the gains with supporting documentation for each reported skill gain, often under significant time pressure. This commenter also suggested that the employment records for VR participants maintained by State Unemployment Insurance (UI) programs do not include all VR participants who achieved employment outcomes. The commenter noted that, due to State VR agencies' limited resources for extensive “contact tracing” of individuals who do not have UI wage records, the data on participants' post-VR employment and earnings will continue being underreported for a period of time until all State VR agencies are able to access the cross-State UI wage data.

Discussion: The Department appreciates the commenter's suggestions regarding data collection and analysis related to VR agencies' performance, MSG, and post-VR employment and earnings of VR participants. RSA has provided, and is continuing to provide, tools and technical assistance to VR agencies to help improve the completeness and accuracy of data reported by VR agencies. These tools and technical assistance include RSA-911 policy directives, RSA and Workforce Innovation Technical Assistance Center (WINTAC) training series on MSG and credential attainment, and exit and post-exit data elements. RSA believes that the technical assistance centers will further respond to VR agency personnel's needs in conducting data collection and analyses related to VR agencies' performance employment outcomes of individuals with disabilities, including MSG and post-VR employment and earnings data addressed by the commenter.

Changes: None.

Comment: None.

Discussion: After further review of the project requirements, we did not want to limit the dissemination of the summative findings to only the fifth year of the grant, as there are formative findings throughout the grant period, while the technical assistance is occurring, that could be shared with a larger audience. We are interested in these additional presentations to give centers more opportunities to share about successes and challenges that they have experienced in order to better inform the work of the field in an incremental and progressive manner. Accordingly we are revising Project Requirement (7) under Priority 1 and Project Requirement (6) under Priority 2, as well as Additional Application Requirement (b)(6) under Priorities 1 and 2, to provide that the centers must engage in dissemination activities in all years of the grant period, with a special focus in the fifth year, rather than in the fifth year alone.

Changes: We have revised Project Requirement (7) under Priority 1 and Project Requirement (6) under Priority 2, as well as Additional Application Requirement (b)(6) under Priorities 1 and 2, to require the centers to present at a national conference or regional forums or specialized meetings throughout the grant period, with special focus in the fifth year of the grant, to disseminate the centers' summative findings and results.

Definitions

Comment: One commenter noted that in the proposed priority the terms “fiscal management” and “resource management” are both used. This commenter asked for clarification on what these two terms relate to and suggested that RSA define each of the terms to distinguish the key differences between the two.

Discussion: For these priorities, “resource management” refers to the efficient and effective development of a VR agency's resources when they are needed. Such resources may include financial resources, agency personnel skills, community rehabilitation resources, or information technology, including information technology for individuals with disabilities. “Fiscal management” refers to the practice of applying general management principles to the financial resources of the agency or organization. Such financial resources may include planning, organizing, directing, and controlling financial activities such as the procurement and utilization of funds of the organization. We believe that the key differences between the two terms are explained in the eight bullets at the end of Priority 1 that provide several examples of effective resource management. Therefore, a definition is not required.

Changes: None.

Final Priorities

Priority 1

Vocational Rehabilitation Technical Assistance Center for Quality Management

The purpose of this priority is to fund a cooperative agreement to establish a Vocational Rehabilitation Technical Assistance Center for Quality Management (VRTAC-QM).

The VRTAC-QM will provide intensive training and technical assistance, targeted training and technical assistance, and universal training and technical assistance to State VR agencies on quality management strategies that will enable VR agencies to improve service delivery to, and employment outcomes achieved by, individuals with disabilities. For States that request intensive training and technical assistance, the training and technical assistance will upgrade and increase the competencies, skills, and knowledge of VR personnel, enabling them to assess current VR program performance and to identify the strengths, weaknesses, opportunities for improvement, and threats (SWOT) that impact the effectiveness of VR agency service delivery and the quality of employment outcomes. This SWOT assessment will be based on a review of a wide variety of information sources, including, but not limited to, RSA's monitoring findings and recommendations; State audit reports; consumer feedback provided in public hearings and through consumer satisfaction surveys; results of comprehensive statewide needs assessments; and input from workforce development partners, community rehabilitation programs, and other VR stakeholders. Based on SWOT assessments, the center and VR agency personnel will develop individualized intensive training and technical assistance agreements designed to provide personnel with skills and strategies they need to address the weaknesses identified in the SWOT assessments to improve service delivery and employment outcomes for individuals with disabilities. The center will also provide VR agency personnel with technical assistance on evaluating whether the quality management strategies they adopt lead to increasing the percentage of participants who achieve an MSG and exit the program with an employment outcome and to modify those strategies, if necessary, to achieve continuous program improvement. In addition to the intensive training and technical assistance, the VRTAC-QM also will provide targeted training and technical assistance and universal training and technical assistance to State VR agencies on a broad range of quality management strategies and practices, both programmatic and fiscal, to address needs common to many agencies.

With regard to program management and performance, the VRTAC-QM's training and technical assistance will support the assessment, development, and enhancement of staff knowledge, skills, and abilities to perform the following functions in order to improve service delivery and employment outcomes for individuals with disabilities:

• Analyzing the State VR agency's comprehensive system of personnel development to identify strengths and weaknesses in staff's ability to understand and address factors affecting program performance and designing management strategies to address these deficits.

• Analyzing case service data to identify trends and inconsistencies in program performance, and developing strategies to improve the effectiveness and timeliness of services provided, including addressing inconsistencies in the quality and quantity of employment outcomes achieved by various groups of individuals with disabilities served by the program.

• Understanding statutory and regulatory requirements related to performance management, including calculations for the common performance measures required under WIOA and factors that may be affecting the agency's performance on these measures.

• Conducting quality assurance and performance improvement, including the use of data for performance management systems and the implementation of the common performance measures required by WIOA.

• Strategic planning to address aspects of the SWOT assessment that pose challenges and barriers to improving service delivery and employment outcomes for individuals with disabilities, particularly students and youth with disabilities and individuals with significant and the most significant disabilities.

• Implementing effective and efficient policies for delivering pre-employment transition services under section 113, VR services under section 103(a), and supported employment services under title VI of the Rehabilitation Act.

• Understanding the relationship to important outcomes of various cost containment measures, such as implementing an order of selection giving priority for services to individuals with the most significant disabilities, establishing a financial needs test for various services, implementing policies for consumer participation in the cost of services, and implementing the requirement to seek comparable services and benefits for certain services, among others.

Under the VR program, agencies must comply with several complex Federal fiscal requirements related to maintenance of effort, reallotment, reservation of funds for pre-employment transition services, and match, among others. VR agencies must understand, track, assess, and adjust, when necessary, program activities to meet these requirements while maximizing program outcomes. Additionally, the lack of knowledge and skills in fiscal and resource management can negatively affect the ability of VR agency personnel to meet consumer needs, for example, necessitating the implementation of orders of selection limiting the numbers of eligible individuals served in the VR program. With regard to effective resource management, the training and technical assistance will support the assessment, development, and enhancement of staff knowledge, skills, and abilities to ensure that—

• Resources, including program funds and personnel, are being used for allowable purposes and innovative employment strategies and supports that maximize employment outcomes for individuals with disabilities, including students and youth with disabilities and individuals with significant and the most significant disabilities;

• Programs have sound internal controls and reliable reporting systems upon which to base fiscal and programmatic decision-making to support attainment of program goals and objectives, including those related to increasing the numbers and qualifications of service delivery personnel; and

• Resources, including program funds and personnel, are maximized for program needs.

The following are examples of activities the VRTAC-QM may undertake to address weaknesses in resource management:

• Assess grantee financial management processes used to support attainment of fiscal and programmatic outcomes (for example, whether an agency's fiscal processes support the accurate tracking and reporting of non-Federal funds to maximize the drawdown of Federal award funds to support attainment of employment outcomes). The assessment will be used to identify areas for improvement in fiscal processes that will assist the agency in meeting program goals.

• Assess personnel training and technical assistance needs to identify gaps in fiscal knowledge, skills, and abilities that prevent the agency from effective and efficient resource utilization necessary to achieve employment outcomes.

• Provide intensive training and technical assistance on financial planning to maximize program resources and attainment of program goals and objectives, maximizing opportunities for funds matching, avoiding potential maintenance of effort and match penalties, and meeting the reservation of funds requirement for pre-employment transition services in order to increase resources available for service delivery.

• Provide technical assistance on implementing Federal, State, and program fiscal requirements, including internal controls, in an efficient and effective manner to reduce unnecessary burden and to focus efforts on program outcomes.

• Provide technical assistance on the identification, collection, and analysis of program and fiscal data necessary for program management and maximizing available resources to support consumer services.

Priority 2

Vocational Rehabilitation Technical Assistance Center for Quality Employment

The purpose of this priority is to fund a cooperative agreement to establish a Vocational Rehabilitation Technical Assistance Center for Quality Employment (VRTAC-QE).

The purpose of the VRTAC-QE is to upgrade and increase the competencies, skills, and knowledge of VR personnel to implement and sustain employment strategies and supporting practices that enable individuals with disabilities to achieve quality employment and career advancement, particularly competitive integrated employment as defined in the Rehabilitation Act. The center will include strategies and practices that meet the needs and promote the quality employment of individuals with significant and the most significant disabilities, students and youth with disabilities, and traditionally underserved populations. The VRTAC-QE will implement a coordinated plan to provide intensive training and technical assistance, targeted training and technical assistance, and universal training and technical assistance to State VR agencies on a broad range of employment strategies and supporting practices.

Employment strategies for consideration include, but are not limited to, the following:

(a) Career pathways education, training, and supports in high-demand occupations, including those in science, technology, engineering, and mathematics (STEM) fields.

(b) Registered and industry-recognized apprenticeships, pre-apprenticeships, and on-the-job training.

(c) Supported employment and customized employment.

(d) Customized training and credential programs to meet employer demand.

(e) Self-employment and entrepreneurship, including services available under the Randolph-Sheppard Vending Facility Program.

(f) Business engagement and employer supports, including dual customer models such as Progressive Employment.

Supporting practices for consideration include, but are not limited to, the following:

(1) Practices to enhance the employment capacity of individuals with the most significant disabilities receiving supported employment services, such as the Individual Placement and Support model.

(2) Pre-employment transition services that prepare students with disabilities and transition services that prepare youth with disabilities to identify career interests through work-based learning and early career exploration opportunities, including internships and job shadowing, with a focus on high-demand and STEM careers.

(3) Career counseling techniques and resources, including labor market information tools such as Career Index Plus.

(4) Strategies involving workforce development partners, community rehabilitation programs, and other community-based organizations to provide the comprehensive support services that individuals with significant and the most significant disabilities need to succeed, such as the Integrated Resource Teams model.

(5) Approaches that encourage VR clients to enter and remain engaged in the VR process, such as rapid engagement, motivational interviewing, benefits counseling, and financial empowerment training, and vehicles such as the Achieving a Better Life Experience (ABLE) tax-free accounts for individuals with disabilities.

(6) Community outreach strategies to expand the pool of potential VR applicants and referral sources, including traditionally underserved populations.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Requirements

The Department establishes the following requirements for these priorities. We may apply these requirements in any year in which these priorities are in effect.

Project Requirements of Priority 1

To meet the requirements of this priority, the VRTAC-QM must, at a minimum, conduct one or more of the following activities:

(1) Establish a committee on quality management of State VR programs that meets at least semi-annually to obtain individual advice and recommendations for the project.

The committee must include, but is not limited to, individuals with disabilities, representatives from State VR agencies, representatives from community rehabilitation programs, stakeholders, and individuals with subject matter expertise in improving outcomes through effective program and resource management and in employment strategies for people with disabilities. At a minimum, the committee members will provide individual input and recommendations pertaining to the implementation of the project and the project evaluation and quality assurance plan.

(2) Establish a state-of-the-art website and information technology (IT) platform for communicating with State VR agencies and ensure that all products produced by the VRTAC-QM and posted on the website meet government and industry-recognized standards for accessibility.

The website will become a key training and technical assistance delivery vehicle; a major communication center for the VRTAC-QM and State VR agencies; and the central repository of information about quality management strategies and practices that will form the basis for intensive training and technical assistance, targeted training and technical assistance, and universal training and technical assistance.

(3) Complete a comprehensive review of programmatic and fiscal quality management strategies and practices for VR services for individuals with disabilities to achieve employment outcomes and develop an overarching training and technical assistance plan for the project. Both the review and the plan must be made available to the public, ensuring applicable privacy requirements are met.

The purpose of the review is to identify those strategies and practices for inclusion in VRTAC-QM's overarching training and technical assistance plan. The center will develop an analytical framework and selection criteria against which to evaluate potential strategies and practices. The analysis will focus on: State VR agency needs and priorities, up-to-date information on quality management strategies and practices that have proven to be effective in the field of rehabilitation as well as other public and private sectors of the economy that may have applicability to the management of VR agencies, and quantitative and qualitative research on the effectiveness of the identified program and resource management strategies and practices leading to improved service delivery and employment outcomes for individuals with disabilities.

Sources of information used for this review may include: State VR agency interviews and consultations; information from such sources as the RSA-911 Case Service Report aggregate data, general labor market data and information, Unified or Combined State Plans, and RSA monitoring reports; and information and resources generated by technical assistance centers funded by the U.S. Departments of Education, Labor, and Health and Human Services.

The overarching training and technical assistance plan must include, at a minimum—

(a) Quality management strategies and practices that result in improved service delivery and employment outcomes for individuals with disabilities, including the rationale for their selection;

(b) Conceptual framework for the selected strategies and practices, including key assumptions, expectations, and presumed relationships or linkages among strategies and practices;

(c) Nature and scope of the intensive training and technical assistance, targeted training and technical assistance, and universal training and technical assistance to be provided in support of the selected strategies and practices; and

(d) Protocols and timelines for requesting and obtaining training and technical assistance.

(4) Provide intensive training and technical assistance to State VR agencies.

Intensive training and technical assistance will be provided to increase State VR agencies' capacity to adopt, expand, or sustain programmatic and fiscal quality management strategies and practices that improve the quality of service delivery and employment outcomes. Intensive training and technical assistance will be provided on-site, over an extended period, under the terms of signed intensive training and technical assistance agreements between the VRTAC-QM and the participating State VR agencies. Numerical targets for the number of intensive training and technical assistance agreements will be included in the cooperative agreement between RSA and the VRTAC-QM. Agreements will reflect the participating VR agencies' needs and priorities, goals, and objectives. They must include the following components:

(a) Quality management strategies and practices to be implemented by the State VR agency and that result in improved service delivery and employment outcomes.

(b) Nature and scope of the training and technical assistance to be provided by the VRTAC-QM.

(c) Roles and responsibilities of the VRTAC-QM, State VR agency, other workforce development partners, community rehabilitation programs, and other partners, including the commitment of resources.

(d) Logic model ¹ that includes: Performance outcomes, targets, and baselines; project activities, inputs, and outputs; and data collection and analysis commitments.

¹ “Logic model” (also referred to as a theory of action) means a framework that identifies key project components of the proposed project (i.e., the active “ingredients” that are hypothesized to be critical to achieving the relevant outcomes) and describes the theoretical and operational relationships among the key project components and relevant outcomes.

The intensive training and technical assistance agreements will be developed based on the VRTAC-QM and participating VR agency's review and analysis of such information sources as Unified or Combined State Plans; RSA-911 and other performance data; general labor market data and information; RSA monitoring reports; State audit reports; and a review of pertinent Federal, State, and local resources in the State, including existing employment and training programs.

(5) Provide targeted training and technical assistance and universal training and technical assistance on programmatic and fiscal quality management strategies and practices that lead to effective and efficient service delivery and quality employment outcomes.

(6) Coordinate training and technical assistance with other technical assistance centers.

The VRTAC-QM must coordinate the provision of training and technical assistance with the Vocational Rehabilitation Technical Assistance Center for Quality Employment and other RSA-funded technical assistance and training centers. This coordination is particularly critical when developing intensive training and technical assistance agreements with the VR agencies to avoid confusion and duplication of efforts. The VRTAC-QM must also coordinate with other technical assistance centers funded by the U.S. Departments of Education, Labor, and Health and Human Services.

(7) Present at a national conference or regional forums or specialized meetings throughout the grant period, with special focus in the fifth year of the grant to disseminate the VRTAC-QM's summative findings and results.

The primary objectives are to help State VR agencies to expand and sustain their VRTAC-QM programmatic and fiscal management strategies and practices that result in improved service delivery and employment outcomes by promoting an exchange of ideas and experiences with other participating VR agencies and to encourage other State VR agencies to consider adopting VRTAC-QM strategies and practices. In addition, the VRTAC-QM will explore cost-effective approaches such as virtual convenings to engage VR agencies and partners who may be unable to attend in-person meetings.

(8) Develop a plan for an evaluation, including a timeline for the evaluation and measurement benchmarks, that will assess the effect of the center's training and technical assistance on the service delivery and employment outcomes achieved by the VR agencies that received the center's services. This should be done through an analysis of the quality, relevance, and usefulness of VRTAC-QM training and technical assistance activities designed to improve State VR agencies' program and resource management and lead to improved service delivery and achievement of high-quality employment outcomes and career advancement.

Project Requirements of Priority 2

To meet the requirements of this priority, the VRTAC-QE must, at a minimum, conduct one or more of the following activities:

(1) Establish a state-of-the-art website and IT platform for communicating with State VR agencies and ensure that all products produced by the VRTAC-QE and posted on the website meet government and industry-recognized standards for accessibility.

The website will become a key training and technical assistance delivery vehicle; a major communication center for the VRTAC-QE, State VR agencies, workforce development partners, and other professionals; and the central repository of information about employment strategies and practices that will form the basis for intensive training and technical assistance, targeted training and technical assistance, and universal training and technical assistance.

(2) Complete a comprehensive review of effective strategies and practices leading to quality employment for individuals with disabilities and develop an overarching training and technical assistance plan for the project. Both the review and the plan must be made available to the public, ensuring applicable privacy requirements are met.

The purpose of the review is to identify employment strategies and supporting practices for inclusion in VRTAC-QE's overarching training and technical assistance plan. The center will develop an analytical framework and selection criteria against which to evaluate potential strategies and practices. The analysis will focus on: State VR agency needs and priorities; up-to-date information on national trends, barriers, challenges, and opportunities regarding quality employment for individuals with disabilities, including factors leading to successful employment of individuals with significant and the most significant disabilities, students and youth with disabilities, and traditionally underserved populations; and quantitative and qualitative research on the effectiveness of the identified strategies and practices.

Sources of information for this review may include, but are not limited to, State VR agency interviews and consultations; analyses of aggregate RSA-911 Case Service Report data, Unified or Combined State Plans, and RSA monitoring reports; information and tools generated by RSA's vocational rehabilitation technical assistance centers and special demonstration projects, available on the National Clearinghouse of Rehabilitation Training Materials website; and other resources funded by the U.S. Departments of Education, Labor, and Health and Human Services, and institutions of higher education.

The overarching training and technical assistance plan must include, at a minimum—

(a) Employment strategies and supporting practices, including the rationale for their selection;

(b) Conceptual framework for the selected strategies and practices, including key assumptions, expectations, and presumed relationships or linkages among strategies and practices;

(c) Nature and scope of the intensive training and technical assistance, targeted training and technical assistance, and universal training and technical assistance to be provided in support of the selected strategies and practices; and

(d) Protocols and timelines for requesting and obtaining training and technical assistance.

(3) Provide intensive training and technical assistance to State VR agencies.

Intensive training and technical assistance will be provided to increase the capacity of State VR agencies to adopt, expand, or sustain employment strategies and supporting practices that improve the quality of employment outcomes. Intensive training and technical assistance will be provided on-site, over an extended period, under the terms of signed intensive training and technical assistance agreements between the VRTAC-QE and the participating State VR agencies. Numerical targets for the number of intensive training and technical assistance agreements will be included in the cooperative agreement between RSA and the VRTAC-QE. Agreements will reflect the participating VR agencies' needs and priorities, goals, and objectives. They must include the following components:

(a) Employment strategies and supporting practices to be implemented by the State VR agency.

(b) Nature and scope of the training and technical assistance to be provided by the VRTAC-QE.

(c) Roles and responsibilities of the VRTAC-QE, State VR agency, workforce development partners, community rehabilitation programs, and other partners, including the commitment of resources.

(d) Logic model ² that includes: State-specific performance outcomes, targets, and baselines; project activities, inputs, and outputs; and data collection and analysis commitments.

² “Logic model” (also referred to as a theory of action) means a framework that identifies key project components of the proposed project (i.e., the active “ingredients” that are hypothesized to be critical to achieving the relevant outcomes) and describes the theoretical and operational relationships among the key project components and relevant outcomes.

The intensive training and technical assistance agreements will be developed based on the VRTAC-QE and participating VR agency's review and analysis of such information sources as Unified or Combined State Plans; RSA-911 and other performance data; RSA monitoring reports; relevant labor market information; and a review of pertinent Federal, State, and local resources in the State, including existing employment and training programs.

Intensive training and technical assistance will be implemented in coordination with, and leveraging the resources of, State and local workforce development partners and other parties specified in the intensive training and technical assistance agreement.

(4) Provide targeted training and technical assistance meeting the identified needs of a limited number of State VR agencies, as well as universal training and technical assistance broadly available to all State VR agencies and their partners.

(5) Coordinate training and technical assistance with other technical assistance centers.

The VRTAC-QE must coordinate the provision of training and technical assistance with the Vocational Rehabilitation Technical Assistance Center for Quality Management and other RSA-funded training and technical assistance investments. This coordination is particularly critical when developing intensive training and technical assistance agreements with the VR agencies to avoid confusion and duplication of efforts. The VRTAC-QE must also coordinate with other training and technical assistance resources funded by the U.S. Departments of Education, Labor, and Health and Human Services, and other pertinent Federal or State organizations, and institutions of higher education, as appropriate.

(6) Disseminate VRTAC-QE summative findings and results through a national conference or regional forums or specialized meetings throughout the grant period, with special focus in the fifth year of the grant. The primary objectives are to help State VR agencies to expand and sustain their VRTAC-QE strategies and practices and to encourage other State VR agencies to consider adopting some VRTAC-QE strategies and practices by promoting an exchange of ideas and experiences with other participating VR agencies. To maximize the dissemination of project findings and results throughout the grant period, with special focus in the fifth year, the VRTAC-QE will explore cost-effective approaches such as virtual convenings to engage VR agencies and partners who may be unable to attend in-person meetings.

(7) Develop a plan for an evaluation, including a timeline for the evaluation and measurement benchmarks, that will assess VRTAC-QE employment strategies and supporting activities' effect on VR participants' employment outcomes and career advancement. The evaluation will also assess the quality, relevance, and usefulness of the VRTAC-QE's training and technical assistance in improving State VR agencies' ability to identify and implement the appropriate strategies and practices.

Application Requirements

The following application requirements apply to both Priority 1 and Priority 2. The Department encourages innovative approaches to meet these requirements. Applicants must—

(a) Demonstrate, in the narrative section of the application under “Quality of the Evaluation Plan,” how the proposed project will meet the evaluation requirements of the priority. Applicants must describe the anticipated implementation steps, milestones, and timelines for the development of a logic model for the project. The logic model must include data elements, inputs, activities, outputs, and short-term and long-term performance indicators regarding—

(1) Quantitative outcomes resulting from the program management or employment strategies and practices, including—

(i) Quality and timeliness of the VR processes and services;

(ii) Number and quality of employment outcomes;

(iii) VR participants' employment or career-readiness;

(iv) Cost-effectiveness; and

(v) Sustainability;

(2) Quality, relevance, and usefulness of the project's training and technical assistance activities;

(3) Quantitative or qualitative insights about the relationship between strategies, practices, and training and technical assistance activities on critical outcomes for VR personnel, VR clients, and key partners, including through—

(i) Pre- and post-training assessments;

(ii) Comparison groups;

(iii) Focus groups; or

(iv) Success stories.

(b) Demonstrate, in the narrative section of the application under “Adequacy of Project Resources,” how the applicant will ensure that—

(1) The proposed project will encourage applications for employment from persons who are members of groups that have historically been underrepresented based on race, color, national origin, gender, age, or disability, as appropriate;

(2) Projects will be operated in a manner consistent with nondiscrimination requirements contained in the U.S. Constitution and the Federal civil rights laws;

(3) Key project personnel, consultants, and subcontractors have the qualifications and experience to meet all the requirements of the priority, including expertise in—

(i) Programmatic areas addressed in the Project Requirements section of the priority;

(ii) Program and resource management and oversight;

(iii) Knowledge translation and dissemination, including the effective use of communication technologies; and

(iv) Project evaluation leading to continuous improvement, including qualitative and quantitative assessments;

(4) The applicant and key partners have adequate resources to carry out the proposed project activities, and achieve anticipated project outcomes and impact on the VR services to individuals with disabilities, including assurances that the proposed allocation of human and financial resources for project evaluation will be enough to meet the requirements in section (a) of the application requirement regarding the “Quality of the Evaluation Plan,” above; and

(5) The proposed costs are reasonable in relation to the anticipated results and benefits.

(c) Demonstrate, in the narrative section of the application under “Quality of the Management Plan,” how the applicant will ensure that—

(1) The project's intended outcomes, including implementation of the evaluation plan, will be achieved on time and within budget, through—

(i) Clearly defined responsibilities of key project personnel, consultants, and contractors, as applicable;

(ii) Procedures to track and ensure completion of the action steps, timelines, and milestones established for key project activities, requirements, and deliverables, in accordance with the cooperative agreement between RSA and the applicant;

(iii) Internal monitoring processes to ensure that the project is being implemented in accordance with an established project performance plan, including timelines and milestones; and

(iv) Financial and budgetary oversight processes to ensure timely obligations and reporting of grant funds, in accordance with the Uniform Administrative Requirements, Cost Principles, and Audit Requirements for Federal Awards at 2 CFR part 200 and the terms and conditions of the Federal award;

(2) The allocation of key project personnel, consultants, and contractors—including levels of effort of key personnel—will be appropriate and adequate to achieve the project's intended outcomes, including an assurance that key personnel will have enough availability to ensure timely communications with stakeholders and RSA;

(3) The proposed management plan will ensure that the products and services are of high quality, relevance, and usefulness, in both content and delivery; and

(4) The proposed project will benefit from a diversity of perspectives, including those of State and local personnel, providers, researchers, and policy makers, among others, in its development and operation.

Additional Application Requirements for Priority 1

The following application requirements apply only to priority 1 (VRTAC-QM). The Department encourages innovative approaches to meet these requirements. Applicants must—

(a) Demonstrate, in the narrative section of the application under “Significance of the Project,” how the proposed project will increase State VR agencies' capacity to improve the quality of VR services and employment outcomes for individuals with disabilities by enabling VR agencies to develop and implement efficient and effective program and resource management techniques leading to increases in the numbers and improved skills of VR counselors and other service delivery personnel. To meet this requirement, the applicant must demonstrate—

(1) Knowledge about State VR program challenges, opportunities, barriers, and trends regarding program and resource management or quality employment outcomes for individuals with disabilities including those with significant and the most significant disabilities, students and youth with disabilities, and traditionally underserved populations;

(2) Knowledge about Federal, State, and nongovernment initiatives to promote program and resource management and quality employment outcomes for individuals with disabilities, particularly in response to requirements under WIOA;

(3) The proposed project's potential to contribute to these Federal, State, and nongovernment initiatives by assisting State VR agencies in equipping personnel with the necessary skills and training to implement the substantive provisions of the Rehabilitation Act introduced by WIOA that are designed to improve the quality of employment outcomes for individuals with disabilities; and

(4) How the proposed project will increase State VR agencies' capacity to implement program and resource management strategies leading to improved VR services, employment outcomes, and career advancement opportunities for individuals with disabilities.

(b) Demonstrate, in the narrative section of the application, under “Quality of Project Services,” how the proposed project will achieve the goals, objectives, and intended outcomes of this priority. To meet this requirement, the applicant must describe its plan for implementing the project, including major implementation activities, timelines, and milestones (particularly for the initial fiscal year), as well as key assumptions and expectations, presumed relationships or linkages among variables, and underlying rationale and empirical support, for the following Project Requirements of the priority:

(1) State-of-the-art website. Applicants must describe how the website will serve as an effective communication center, training and technical assistance delivery vehicle, and repository of information about quality management or employment strategies and practices, including—

(i) Expected features and capabilities, including information-delivery and stakeholder-convening technologies; and

(ii) Anticipated uses of such features and capabilities in support of the project goals and objectives.

(2) Comprehensive review. Applicants must describe how the comprehensive review will provide the factual basis for the project training and technical assistance plan. At a minimum, the comprehensive review must include—

(i) Input from State VR agencies about their needs, priorities, and innovative approaches to program and resource management that lead to improved service delivery;

(ii) Information regarding the latest—

(A) National trends, barriers, challenges, and opportunities;

(B) Effective and efficient program and resource management strategies, techniques, and practices that may be applicable to State VR agencies; and

(C) Additional information that the applicant deems relevant; and

(iii) An analytical framework for assessing the collected information and selecting the program and resource management strategies and practices for inclusion in the training and technical assistance plans.

(3) Provision of intensive training and technical assistance. Applicants must describe how the intensive training and technical assistance agreements will increase State VR agencies' capacity to improve the State VR agencies' performance and quality employment outcomes for individuals with disabilities, through State-appropriate—

(i) Program and resource management;

(ii) Federal, State, and local partnerships; and

(iii) Performance outcomes, outputs, inputs, targets, baselines, and data collection requirements.

(4) Provision of targeted training and technical assistance and universal training and technical assistance. Applicants must describe how each training and technical assistance modality (targeted or universal) will help State VR agencies to adopt, expand, and sustain program and resource management practices. For each training and technical assistance modality, describe—

(i) Topics, activities, and products;

(ii) Intended audience and outreach strategies;

(iii) Content delivery and dissemination methods; and

(iv) Steps to ensure quality, relevance, and usefulness.

(5) Coordination. The applicant must describe how it will maximize coordination between the VRTAC-QE and the VRTAC-QM and seek opportunities to coordinate with other training and technical assistance investments, including those funded by the U.S. Departments of Education, Labor, and Health and Human Services, in the provision of training and technical assistance to State VR agencies.

(6) National conference, regional forums, or specialized meetings throughout the grant period, with special focus in the fifth year of the grant performance period. Applicants must describe how the project will disseminate its summative findings and results, including cost-effective approaches such as virtual convenings to engage State VR agencies and other potential Federal, State, local, and nongovernment partners, including—

(i) Types of events (e.g., conferences, forums, specialized meetings);

(ii) Target audience (e.g., by event type, types of stakeholders with a variety of roles and sectors); and

(iii) Convening modes (in-person, virtual).

(c) Demonstrate, in the narrative section of the application under “Quality of the Evaluation Plan,” the applicant's capacity and experience in addressing the State VR agencies' training and technical assistance needs in the areas of program and resource management, including but not limited to strategic planning and performance improvement leading to performance improvement, including SWOT assessment related to implementing strategies that ensure education funds are spent in a way that increases their efficiency and cost-effectiveness, including by reducing waste or achieving better outcomes.

Additional Application Requirements for Priority 2

The following application requirements apply only to Priority 2 (VRTAC-QE). The Department encourages innovative approaches to meet these requirements. Applicants must—

(a) Demonstrate, in the narrative section of the application under “Significance of the Project,” how the proposed project will increase State VR agencies' capacity to improve the quality of VR services and employment outcomes for individuals with disabilities by enabling VR agencies to develop and implement innovative employment and support strategies that are designed to improve employment outcomes and career advancement for individuals with disabilities. To meet this requirement, the applicant must demonstrate—

(1) Knowledge about State VR program challenges, opportunities, barriers, and trends regarding program and resource management or quality employment outcomes for individuals with disabilities including those with significant and the most significant disabilities, students and youth with disabilities, and traditionally underserved populations;

(2) Knowledge about Federal, State, and nongovernment initiatives to promote program and resource management and quality employment outcomes for individuals with disabilities, particularly in response to requirements under WIOA;

(3) The proposed project's potential to contribute to these Federal, State, and nongovernment initiatives by assisting State VR agencies in equipping personnel with the necessary skills and training to implement the substantive provisions of the Rehabilitation Act introduced by WIOA that are designed to improve the quality of employment outcomes for individuals with disabilities; and

(4) How the proposed project will increase State VR agencies' capacity to implement employment strategies and supporting practices leading to improved VR services, employment outcomes, and career advancement opportunities for individuals with disabilities

(b) Demonstrate, in the narrative section of the application, under “Quality of Project Services,” how the proposed project will achieve the goals, objectives, and intended outcomes of this priority. To meet this requirement, the applicant must describe its plan for implementing the project, including major implementation activities, timelines, and milestones (particularly for the initial fiscal year), as well as key assumptions and expectations, presumed relationships or linkages among variables, and underlying rationale and empirical support, for the following Project Requirements of the priority:

(1) State-of-the-art website. Applicants must describe how the website will serve as an effective communication center, training and technical assistance delivery vehicle, and repository of information about quality management or employment strategies and practices, including—

(i) Expected features and capabilities, including information-delivery and stakeholder-convening technologies; and

(ii) Anticipated uses of such features and capabilities in support of the project goals and objectives.

(2) Comprehensive review. Applicants must describe how the comprehensive review will provide the factual basis for the project training and technical assistance plan. At a minimum, the comprehensive review must include—

(i) Input from State VR agencies about their needs, priorities, and innovative approaches to program and resource management that lead to quality employment and career-readiness that lead to quality employment outcomes;

(ii) Information regarding the latest—

(A) National trends, barriers, challenges, and opportunities;

(B) Effective employment strategies and practices that prepare individuals with disabilities to compete in the global economy and designed to create or expand innovative and affordable paths to relevant careers through postsecondary credentials or job-ready skills; and

(C) Additional information that the applicant deems relevant; and

(iii) An analytical framework for assessing the collected information and selecting the employment and career-readiness strategies and practices for inclusion in the training and technical assistance plans.

(3) Provision of intensive training and technical assistance. Applicants must describe how the intensive training and technical assistance agreements will increase State VR agencies' capacity to improve the State VR agencies' performance and quality employment outcomes for individuals with disabilities, through State-appropriate—

(i) Employment strategies and supporting practices;

(ii) Federal, State, and local partnerships; and

(iii) Performance outcomes, outputs, inputs, targets, baselines, and data collection requirements.

(4) Provision of targeted training and technical assistance and universal training and technical assistance. Applicants must describe how each training and technical assistance modality (targeted or universal) will help State VR agencies to adopt, expand, and sustain employment strategies and practices that improve employment outcomes and career advancement opportunities for eligible VR participants. For each training and technical assistance modality, describe—

(i) Topics, activities, and products;

(ii) Intended audience and outreach strategies;

(iii) Content delivery and dissemination methods; and

(iv) Steps to ensure quality, relevance, and usefulness.

(5) Coordination. The applicant must describe how it will maximize coordination between the VRTAC-QE and the VRTAC-QM and seek opportunities to coordinate with other technical assistance centers, including those funded by the U.S. Departments of Education, Labor, and Health and Human Services, in the provision of training and technical assistance to State VR agencies.

(6) National conference, regional forums, or specialized meetings throughout the grant period, with special focus in the fifth year of the grant performance period. Applicants must describe how the project will disseminate its summative findings and results, including cost-effective approaches such as virtual convenings to engage State VR agencies and other potential Federal, State, local, and nongovernment partners, including—

(i) Types of events (e.g., conferences, forums, specialized meetings);

(ii) Target audience (e.g., by event type, types of stakeholders with a variety of roles and sectors); and

(iii) Convening modes (in-person, virtual).

Final Definitions

The Department establishes the following definitions for use with the VRTAC-QM and VRTAC-QE priorities to ensure that applicants have a clear understanding of how we are using these terms.

Intensive training and technical assistance means training and technical assistance provided to State VR agencies and State VR agency personnel primarily on-site or through remote delivery, as needed and appropriate, over an extended period. Intensive training and technical assistance is based on an ongoing relationship between the training and technical assistance center staff and State VR agencies and State VR agency personnel under the terms of a signed intensive training and technical assistance agreement.

Targeted training and technical assistance means training and technical assistance based on needs common to one or more State VR agencies and State VR agency personnel on a time-limited basis and with limited commitment of training and technical assistance center resources. Targeted training and technical assistance are delivered through virtual or in-person methods tailored to the identified needs of the participating State VR agencies and State VR agency personnel.

Universal training and technical assistance means training and technical assistance broadly available to State VR agencies and State VR agency personnel and other interested parties through their own initiative, resulting in minimal interaction with training and technical assistance center staff. Universal training and technical assistance includes generalized presentations, products, and related activities available through a website or through brief contacts with the training and technical assistance center staff.

This document does not preclude us from proposing additional priorities, requirements, definitions, or selection criteria, subject to meeting applicable rulemaking requirements.

Note: This document does not solicit applications. In any year in which we choose to use one or more of these priorities, requirements, and definitions, we invite applications through a notice in the Federal Register.

Executive Orders 12866, 13563, and 13771

Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or Tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This final regulatory action is not a significant regulatory action subject to review by OMB under section 3(f) of Executive Order 12866.

Under Executive Order 13771, for each new rule that the Department proposes for notice and comment or otherwise promulgates that is a significant regulatory action under Executive Order 12866, and that imposes total costs greater than zero, it must identify two deregulatory actions. For FY 2020, any new incremental costs associated with a new regulation must be fully offset by the elimination of existing costs through deregulatory actions. Because this regulatory action is not significant, the requirements of Executive Order 13771 do not apply.

We have also reviewed this final regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing these final priorities, requirements, and definitions only on a reasoned determination that their benefits justify their costs. In choosing among alternative regulatory approaches, we selected those approaches that maximize net benefits. Based on the analysis that follows, the Department believes that this regulatory action is consistent with the principles in Executive Order 13563.

We also have determined that this regulatory action does not unduly interfere with State, local, and Tribal governments in the exercise of their governmental functions.

In accordance with both Executive orders, the Department has assessed the potential costs and benefits, both quantitative and qualitative, of this regulatory action. The potential costs are those resulting from statutory requirements and those we have determined as necessary for administering the Department's programs and activities.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Mark Schultz,
Commissioner, Rehabilitation Services Administration, Delegated the authority to perform the functions and duties of the Assistant Secretary for the Office of Special Education and Rehabilitative Services.

[FR Doc. 2020-16685 Filed 7-30-20; 4:15 pm]

BILLING CODE 4000-01-P